DEPARTMENT OF ENERGY

Federal Energy Regulatory Commission

Combined Notice of Filings #1

January 23, 2008.

Take notice that the Commission has received the following Natural Gas Pipeline Rate and Refund Report filings:

Docket Numbers: RP97-255-080.

Applicants: TransColorado Gas Transmission Company.

Description: TransColorado Gas Transmission Co. submits Eighteenth Revised Sheet 21 and Fourteenth Revised Sheet 22B to FERC Gas Tariff, First Revised Volume 1 etc., in compliance with FERC's 11/29/07 Order.

Filed Date: 01/17/2008.

Accession Number: 20080123-0025.

Comment Date: 5 p.m. Eastern Time on Tuesday, January 29, 2008.

Docket Numbers: RP97-255-080.

Applicants: TransColorado Gas Transmission Company.

Description: TransColorado Gas Transmission Co., LLC submits marked version of the 1/17/18 filing of two agreements with EnCana Marketing USA, Inc in compliance with FERC's 11/29/07 Order.

Filed Date: 01/18/2008.

Accession Number: 20080123-0024.

Comment Date: 5 p.m. Eastern Time on Wednesday, January 30, 2008.

Docket Numbers: RP99-176-150.

Applicants: Natural Gas Pipeline Company of America.

Description: Natural Gas Pipeline Company of America submits Amendment 1 to the Firm Transportation and Storage Negotiated Rate Agreement with CenterPoint Energy Minnesota Gas.

Filed Date: 01/18/2008.

Accession Number: 20080123-0022.

Comment Date: 5 p.m. Eastern Time on Wednesday, January 30, 2008.

Docket Numbers: RP99-301-199.

Applicants: ANR Pipeline Company.

Description: ANR Pipeline Company submits amendments to an Amended and Restated Minimum Delivery Pressure and Maximum Delivery Level Agreement with Wisconsin Electric Power Company.

Filed Date: 01/18/2008.

Accession Number: 20080123-0023.

Comment Date: 5 p.m. Eastern Time on Wednesday, January 30, 2008.

Docket Numbers: RP05-157-009.

Applicants: Saltville Gas Storage Company L.L.C.

Description: Saltville Gas Storage Company, LLC submits Sub Original Sheet 20 et al. to FERC Gas Tariff, Original Volume 1, to be effective 2/18/08.

Filed Date: 01/18/2008.

Accession Number: 20080123-0021.

Comment Date: 5 p.m. Eastern Time on Wednesday, January 30, 2008.

Docket Numbers: RP05-422-025.

Applicants: El Paso Natural Gas Company.

Description: El Paso Natural Gas Co's CD containing its refund report.

Filed Date: 01/18/2008.

Accession Number: 20080118-4013.

Comment Date: 5 p.m. Eastern Time on Wednesday, January 30, 2008.

Docket Numbers: RP07-328-001.

Applicants: Transcontinental Gas Pipe Line Corporation.

Description: Transcontinental Gas Pipe Line Corporation tendered for filing a compliance filing to the Commission's order issued on March 29, 2007 in the above referenced proceeding, concerning the “Eminence Storage Loss” reflected in Transcontinental's March 1, 2007 filing.

Filed Date: 04/30/2007.

Accession Number: 20070430-5025.

Comment Date: 5 p.m. Eastern Time, Tuesday, January 29, 2008.

Docket Numbers: RP08-109-002.

Applicants: Northern Natural Gas Company.

Description: Northern Natural Gas Company submits a filing proposing additional Firm Deferred Delivery Storage Flexibility by allowing shippers to reduce their scheduled firm withdrawal & injection quantities etc.

Filed Date: 01/18/2008.

Accession Number: 20080123-0020.

Comment Date: 5 p.m. Eastern Time on Wednesday, January 30, 2008.

Docket Numbers: RP08-164-000.

Applicants: Florida Gas Transmission Company, LLC.

Description: Florida Gas Transmission Company submits First Revised Sheet 650 et al. to its FERC Gas Tariff, Fourth Revised Volume 1, to become effective 2/16/08.

Filed Date: 01/16/2008.

Accession Number: 20080117-0038.

Comment Date: 5 p.m. Eastern Time on Tuesday, January 29, 2008.

Docket Numbers: RP08-167-000.

Applicants: TransColorado Gas Transmission Company.

Description: TransColorado Gas Transmission Co, LLC submits Original Sheet 0 and 1 et al. to its FERC Gas Tariff, Second Revised Volume 1.

Filed Date: 01/18/2008.

Accession Number: 20080123-0018.

Comment Date: 5 p.m. Eastern Time on Wednesday, January 30, 2008.

Docket Numbers: RP08-168-000.

Applicants: Trailblazer Pipeline Company.

Description: Trailblazer Pipeline Company submits Original Sheet 0 and 1 et al. to FERC Gas Tariff, Fourth Revised Volume 1, to be effective 12/28/07.

Filed Date: 01/18/2008.

Accession Number: 20080123-0026.

Comment Date: 5 p.m. Eastern Time on Wednesday, January 30, 2008.

Docket Numbers: RP08-169-000.

Applicants: Dominion Cove Point LNG, LP.

Description: Dominion Cove Point LNG, LP submits Eighth Revised Sheet 11 to its FERC Gas Tariff, Original Volume 1, to be effective 2/17/08.

Filed Date: 01/18/2008.

Accession Number: 20080123-0019.

Comment Date: 5 p.m. Eastern Time on Wednesday, January 30, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-1513 Filed 1-28-08; 8:45 am]

BILLING CODE 6717-01-P